DEPARTMENT OF COMMERCE

National Oceanic and Atmospheric Administration

Harmful Algal Bloom Programs Termination of Regional Rotations

AGENCY: National Ocean Service (NOS), National Oceanic and Atmospheric Administration (NOAA), Department of Commerce (DOC).

ACTION: Notice.

SUMMARY: NOAA publishes this notice to amend 74 Federal Register 84 (May 4, 2009) pp. 20465-20469 titled, “Notice of implementation of new competitive Prevention, Control, and Mitigation of Harmful Algal Blooms Program and regional rotation of the existing and new national competitive HAB Programs.” This notice announces the completion of the regional rotation. In addition, further information about competitive objectives, procedures, and guidance will be posted in announcements on the OMB-designated government wide Web site for finding and applying for Federal financial assistance, currently www.Grants.gov. All other aspects of the original Federal Register Notice remain the same.

FOR FURTHER INFORMATION CONTACT: Quay Dortch, ECOHAB Program Coordinator and PCMHAB Program Manager, 301/713-3338 ext 157, Quay.Dortch@noaa.gov or Marc Suddleson, MERHAB Program Manager, 301/713-3338 ext 162, Marc.Suddleson@noaa.gov, Center for Sponsored Coastal Ocean Research, National Centers for Coastal Ocean Science, National Ocean Service, National Oceanic and Atmospheric Administration.

SUPPLEMENTARY INFORMATION: The 1998 Harmful Algal Bloom and Hypoxia Research Control Act (HABHRCA), as amended, codified at 33 U.S.C. 4001-4009, authorized the establishment of three national competitive programs on Harmful Algal Blooms (HABs) and the Harmful Algal Bloom and Hypoxia Research and Control Amendments Act of 2014, Public Law 113-124; authorized the continuation of these programs. NOAA implements HABHRCA through the Ecology and Oceanography of Harmful Algal Blooms (ECOHAB) Program, the Monitoring and Event Response for Harmful Algal Bloom (MERHAB) Program and the Prevention, Control and Mitigation of Harmful Algal Blooms (PCMHAB) Program. ECOHAB provides coastal managers with the understanding, tools, and models to predict the development, extent, and toxicity of HABs and their impacts, leading to early warning and new prevention and mitigation strategies. MERHAB builds capacity and enhances partnerships between managers, researchers, and private industry to improve monitoring for HAB cells and toxins and responding to HAB events. The PCM HAB program transitions promising technologies and strategies for preventing, controlling, or mitigating HABs and their impacts from development through demonstration and technology transfer for field application by end-users. A regional rotation for the three Harmful Algal Blooms Programs was implemented in Fiscal Year 2009. All three regions have been rotated once and a rotation cycle is now complete. Beginning in 2016, the regional rotation will not be used to define the geographic scope of future competitions. Hereafter, the necessary objectives, procedures, and guidance for Harmful Algal Bloom funding competitions will be posted in announcements on the OMB-designated government wide Web site for finding and applying for Federal financial assistance, currently www.Grants.gov.

Other Information

Administrative Procedure Act: Notice and comment are not required under the Administrative Procedure Act, (5 U.S.C. 553), or any other law, for notices relating to public property, loans, grants, benefits or contracts (5 U.S.C. 553(a)). Because notice and comment is not required, a Regulatory Flexibility Analysis is not required and has not been prepared for this notice, (5 U.S.C. 601 et seq).

Dated: June 2, 2016.
Christopher C. Cartwright,
Chief Financial Officer/Chief Administrative Officer, Ocean Service and Coastal Zone Management.

[FR Doc. 2016-13670 Filed 6-8-16; 8:45 am]

BILLING CODE 3510-JE-P